DEPARTMENT OF THE INTERIOR

Fish and Wildlife Service

Waccamaw National Wildlife Refuge

AGENCY: Fish and Wildlife Service, Interior.

ACTION: Notice of intent to prepare a Comprehensive Conservation Plan and Environmental Assessment for Waccamaw National Wildlife Refuge in Horry, Georgetown, and Marion Counties, South Carolina.

SUMMARY: This notice advises the public that the Fish and Wildlife Service, Southeast Region, intends to gather information necessary to prepare a comprehensive conservation plan and environmental assessment pursuant to the National Environmental Policy Act and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitat, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than April 28, 2006.

ADDRESSES: Comments, questions, and requests for more information regarding the Waccamaw National Wildlife Refuge planning process should be sent to: M. Craig Sasser, Refuge Manager, 1601 North Fraser Street, Georgetown, South Carolina 29440; Telephone: 843/527-8069 or 843-509-1514; E-mail: marshall_sasser@fws.gov.

SUPPLEMENTARY INFORMATION: The Service has initiated comprehensive conservation planning for Waccamaw National Wildlife Refuge for the management of its natural resources. This planning will result in the development of goals, objectives, and strategies to carry out the refuge's purposes and to comply with laws and policies governing management and public use of refuges. Opportunities will be provided for public input at open houses to be held in both Georgetown and Conway, South Carolina. All comments received from individuals become part of the official public record. Requests for such comments will be handled in accordance with the Freedom of Information Act and the Council on Environmental Quality's NEPA regulations [40 CFR 1505.6(f)].

The refuge has an acquisition boundary that spans more than 55,000 acres and includes large sections of the Waccamaw and Great Pee Dee rivers and a small section of the Little Pee Dee River. The wetland diversity of this refuge is what sets it apart from most other found along the east coast. Wetland habitats range from historic, broken and actively managed tidal rice fields, to black water and alluvial flood plain forested wetlands. These tidal freshwater wetlands are some of the most diverse freshwater wetland system found in North America and they offer many important habitats for migratory birds, fish, and resident wildlife.

Authority: This notice is published under the authority of the National Wildlife Refuge System Improvement Act of 1997, Public Law 105-57.

Dated: March 8, 2006.
Cynthia K. Dohner,
Acting Regional Director.

[FR Doc. 06-2985 Filed 3-28-06; 8:45 am]

BILLING CODE 4310-55-M